DEPARTMENT OF ENERGY

Federal Energy Regulatory Commission

Combined Notice of Filings #1

Take notice that the Commission received the following electric corporate filings:

Docket Numbers: EC13-30-000.

Applicants: Canadian Hills Wind, LLC, Canadian Hills Holdings Company, LLC.

Description: Application for Authorization Under Section 203 of the FPA for Disposition of Jurisdictional Facilities and Request for Expedited Consideration and Confidential Treatment of Canadian Hills Wind, LLC, et al.

Filed Date: 11/2/12.

Accession Number: 20121102-5083.

Comments Due: 5 p.m. ET 11/23/12.

Docket Numbers: EC13-31-000.

Applicants: New York State Electric & Gas Corporation.

Description: Application for Authorization Under Section 203 of the FPA and Request for Waivers and Expedited Action of New York State Electric & Gas Corporation.

Filed Date: 11/1/12.

Accession Number: 20121101-5192.

Comments Due: 5 p.m. ET 11/23/12.

Take notice that the Commission received the following electric rate filings:

Docket Numbers: ER11-3084-004; ER11-2954-003; ER10-1277-003; ER10-1186-003; ER11-3097-004; ER10-1211-003; ER10-1212-003; ER10-1188-003; ER11-4626-002; ER10-1329-004; ER10-1187-002.

Applicants: The Detroit Edison Company, DTE Calvert City, LLC, DTE East China, LLC, DTE Energy Supply, Inc., DTE Energy Trading, Inc., DTE Pontiac North, LLC, DTE River Rouge No. 1, L.L.C., DTE Stoneman, LLC, Mt. Poso Cogeneration Company, LLC, St. Paul Cogeneration, LLC, Woodland Biomass Power Ltd.

Description: Notice of Change in Status of The Detroit Edison Company, et al.

Filed Date: 10/31/12.

Accession Number: 20121031-5417.

Comments Due: 5 p.m. ET 11/21/12.

Docket Numbers: ER11-4711-002.

Applicants: R&R Energy, Inc.

Description: R&R Compliance Filing 103012 to be effective 12/31/2012.

Filed Date: 11/2/12.

Accession Number: 20121102-5006.

Comments Due: 5 p.m. ET 11/23/12.

Docket Numbers: ER12-911-002.

Applicants: CPV Sentinel, LLC.

Description: Notice of Change in Facts of CPV Sentinel, LLC.

Filed Date: 10/31/12.

Accession Number: 20121031-5416.

Comments Due: 5 p.m. ET 11/21/12.

Docket Numbers: ER13-29-001.

Applicants: BITH Solar 1, LLC.

Description: Amendment of Pending Filing 1 to be effective 12/1/2012.

Filed Date: 11/2/12.

Accession Number: 20121102-5005.

Comments Due: 5 p.m. ET 11/23/12.

Docket Numbers: ER13-48-001.

Applicants: BITH Energy, Inc.

Description: Amendment of Pending Tariff Filing 1 to be effective 12/1/2012.

Filed Date: 11/2/12.

Accession Number: 20121102-5004.

Comments Due: 5 p.m. ET 11/23/12.

Docket Numbers: ER13-286-000.

Applicants: AEP Generating Company.

Description: Unit Power Agreements Amendment to be effective 12/31/2012.

Filed Date: 11/1/12.

Accession Number: 20121101-5114.

Comments Due: 5 p.m. ET 11/23/12.

Docket Numbers: ER13-287-000.

Applicants: AEP Texas Central Company.

Description: TCC-IPA Coleto Creek-South Texas EC GIA Cancellation to be effective 7/20/2012.

Filed Date: 11/1/12.

Accession Number: 20121101-5120.

Comments Due: 5 p.m. ET 11/23/12.

Docket Numbers: ER13-288-000.

Applicants: Entergy Arkansas, Inc.

Description: Attachment Y—Transmission Service Monitoring Agreement to be effective 12/1/2012.

Filed Date: 11/1/12.

Accession Number: 20121101-5144.

Comments Due: 5 p.m. ET 11/23/12.

Docket Numbers: ER13-289-000.

Applicants: Ri-Corp. Development, Inc.

Description: RDC Tariff to be effective 11/2/2012.

Filed Date: 11/1/12.

Accession Number: 20121101-5158.

Comments Due: 5 p.m. ET 11/23/12.

Docket Numbers: ER13-290-000.

Applicants: Michigan Power Limited Partnership.

Description: Revision to Market-Based Rate Tariff to be effective 11/2/2012.

Filed Date: 11/1/12.

Accession Number: 20121101-5161.

Comments Due: 5 p.m. ET 11/23/12.

Docket Numbers: ER13-291-000.

Applicants: EnergyMark, LLC.

Description: EnergyMark MBR Application to be effective 1/2/2013.

Filed Date: 11/2/12.

Accession Number: 20121102-5023.

Comments Due: 5 p.m. ET 11/23/12.

Docket Numbers: ER13-292-000.

Applicants: EBC Energy, LLC.

Description: EBC Energy, LLC submits tariff filing per 35.12: EBC Energy LLC, FERC Electric Tariff to be effective 12/19/2013.

Filed Date: 11/2/12.

Accession Number: 20121102-5032.

Comments Due: 5 p.m. ET 11/23/12.

Docket Numbers: ER13-293-000.

Applicants: ISO New England Inc.

Description: ISO New England Inc. submits tariff filing per 35.13(a)(2)(iii: 2013 NESCOE Budget to be effective 1/1/2013.

Filed Date: 11/2/12.

Accession Number: 20121102-5033.

Comments Due: 5 p.m. ET 11/23/12.

Docket Numbers: ER13-294-000.

Applicants: Midwest Independent Transmission System Operator, Inc.

Description: Midwest Independent Transmission System Operator, Inc. submits tariff filing per 35.13(a)(2)(iii: SA 2486 Bison T-T to be effective 11/3/2012.

Filed Date: 11/2/12.

Accession Number: 20121102-5036.

Comments Due: 5 p.m. ET 11/23/12.

Docket Numbers: ER13-295-000.

Applicants: Southwest Power Pool, Inc.

Description: Southwest Power Pool, Inc. submits tariff filing per 35.13(a)(2)(iii: 2486 ITC Great Plains/NPPD/Midwest Interconnection Agreement to be effective 12/31/9998.

Filed Date: 11/1/12.

Accession Number: 20121101-5186.

Comments Due: 5 p.m. ET 11/23/12.

Docket Numbers: ER13-296-000.

Applicants: Air Energy TCI, Inc.

Description: Air Energy TCI, Inc. submits Petition for Waiver of Tariff Requirements for generator interconnection.

Filed Date: 11/1/12.

Accession Number: 20121101-5195.

Comments Due: 5 p.m. ET 11/23/12.

Docket Numbers: ER13-297-000.

Applicants: Arizona Public Service Company.

Description: Arizona Public Service Company submits tariff filing per 35.13(a)(2)(iii: Amendment One to Exhibit B.SGR of APS Rate Schedule No. 217 to be effective 1/1/2013.

Filed Date: 11/2/12.

Accession Number: 20121102-5082.

Comments Due: 5 p.m. ET 11/23/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 02, 2012.
Nathaniel J. Davis, Sr.,
Deputy Secretary.

[FR Doc. 2012-27497 Filed 11-9-12; 8:45 am]

BILLING CODE 6717-01-P